DEPARTMENT OF TRANSPORTATION

Surface Transportation Board

[STB Finance Docket No. 34524]

Riceboro Southern Railway, L.L.C.—Acquisition and Operation Exemption—Rail Line of CSX Transportation, Inc.

The Riceboro Southern Railway, L.L.C. (RSOR), a noncarrier, has filed a notice of exemption under 49 CFR 1150.31 to acquire by purchase from CSX Transportation, Inc. (CSXT), and operate approximately 18.8 route miles of rail line between milepost S512.2 at Ogeechee, GA (near Richmond Hill), in Bryan County, GA, and milepost S531.0 at Riceboro, GA, in Liberty County, GA. The transaction also includes incidental trackage rights granted by CSXT to RSOR over approximately 14 miles of CSXT's line from milepost S512.2 at Ogeechee to milepost S498.0 at CSXT's Southover Yard at Savannah, GA.

RSOR certifies that its projected revenues do not exceed those that would qualify it as a Class III rail carrier, and that they will not exceed $5 million.

The transaction was expected to be consummated on or about August 25, 2004.

This transaction is related to a simultaneously filed verified notice of exemption in STB Finance Docket No. 34525, K. Earl Durden, Rail Management Corporation, and Rail Partners, L.P.—Continuance in Control Exemption—Riceboro Southern Railway, L.L.C., wherein K. Earl Durden, Rail Management Corporation, and Rail Partners, L.P., are seeking an exemption to continue in control of RSOR upon its becoming a Class III rail carrier.

If the verified notice contains false or misleading information, the exemption is void ab initio. Petitions to revoke the exemption under 49 U.S.C. 10502(d) may be filed at any time. The filing of a petition to revoke does not automatically stay the transaction.

An original and 10 copies of all pleadings, referring to STB Finance Docket No. 34524, must be filed with the Surface Transportation Board, 1925 K Street, NW., Washington, DC 20423-0001. In addition, one copy of each pleading must be served on Andrew B. Kolesar III, Slover & Loftus, 1224 Seventeenth Street, NW., Washington, DC 20036.

Board decisions and notices are available on our Web site at http://www.stb.dot.gov.

Decided: August 25, 2004.
By the Board, David M. Konschnik, Director, Office of Proceedings.
Vernon A. Williams,
Secretary.

[FR Doc. 04-19929 Filed 9-1-04; 8:45 am]

BILLING CODE 4915-01-P